COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action delete product(s) and service(s) from the Procurement List that were furnished by nonprofit agencies employing persons who are blind or have other severe disabilities.

DATES: Date deleted from the Procurement List: May 11, 2025.

ADDRESSES: Committee for Purchase From People Who Are Blind or Severely Disabled, 355 E Street SW, Suite 325, Washington, DC 20024.

FOR FURTHER INFORMATION CONTACT: Michael R. Jurkowski, Telephone: (703) 489-1322 or email CMTEFedReg@AbilityOne.gov.

SUPPLEMENTARY INFORMATION:

Deletions

On March 7, 2025 (90 FR 11521), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 7350-01-693-8670—Bowl, Paper, Round 8 Oz., White

Authorized Source of Supply: The Lighthouse for the Blind in New Orleans, Inc., New Orleans, LA

Contracting Activity: GSA/FSS GREATER SOUTHWEST ACQUISITI, FORT WORTH, TX

Service(s)

Service Type: Medical Transcription

Mandatory for: Department of Veterans Affairs, VISN 20, VA Medical Center, Boise, ID

Authorized Source of Supply: Lighthouse for the Blind of Houston, Houston, TX

Contracting Activity: VETERANS AFFAIRS, DEPARTMENT OF, 260-NETWORK CONTRACT OFFIC20(00260)

Service Type: MEDICAL TRANSCRIPTION SERVICES

Mandatory for: Department of Veterans Affairs, VISN 20, VA Medical Center, Portland, OR

Authorized Source of Supply: Lighthouse for the Blind of Houston, Houston, TX

Contracting Activity: VETERANS AFFAIRS, DEPARTMENT OF, 260-NETWORK CONTRACT OFFIC20(00260)

Service Type: Switchboard Operation

Mandatory for: Veterans Affairs Outpatient Clinic, 3420 Veterans Circle, Beaumont, TX

Authorized Source of Supply: Lighthouse for the Blind of Houston, Houston, TX

Contracting Activity: VETERANS AFFAIRS, DEPARTMENT OF, NAC

Service Type: Switchboard Operation

Mandatory for: Department of Veterans Affairs: Outpatient Clinic, Lufkin, TX

Authorized Source of Supply: Lighthouse for the Blind of Houston, Houston, TX

Contracting Activity: VETERANS AFFAIRS, DEPARTMENT OF, NAC

Service Type: Switchboard Operation

Mandatory for: Department of Veterans Affairs, VAMC, Biloxi, MS

Authorized Source of Supply: The Lighthouse for the Blind in New Orleans, Inc., New Orleans, LA

Contracting Activity: VETERANS AFFAIRS, DEPARTMENT OF, 520-BILOXI (00520)

Service Type: Telephone Switchboard Operations

Mandatory for: Department of Veterans Affairs, VA Medical Center, Kansas City, MO

Authorized Source of Supply: Alphapointe, Kansas City, MO

Contracting Activity: VETERANS AFFAIRS, DEPARTMENT OF, NAC

Michael R. Jurkowski,
Director, Business Operations.

[FR Doc. 2025-06195 Filed 4-10-25; 8:45 am]

BILLING CODE 6353-01-P